DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of July 14, 2018 through August 17, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path or Acquisition of Articles or Services From a Foreign Country Path

(i)(I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,625 | Titan Wheel Corporation of Virginia, Titan International, Inc., Marty, Inc | Saltville, VA | March 8, 2017.
93,875 | Benteler Automotive Corporation, Austrian Benteler International AG, Automotive, Manpower of Lansing | Galesburg, MI | June 7, 2017.
93,909 | Atlantic Coffee Industrial Solutions, LLC | Houston, TX | June 20, 2017.
93,928 | Westinghouse Plasma Corporation, Sunshine Kaidi New Energy Group Co., Ltd | Mt. Pleasant, PA | June 27, 2017.
93,934 | Fibrant, LLC, Augusta Holdco, Inc., Austin Industrial | Augusta, GA | October 22, 2018.
93,939 | Owens-Brockway Glass Container Inc., Owens-Brockway Packaging, Inc | Atlanta, GA | June 28, 2017.

The following certifications have been issued. The requirements of Section 222(a)(2)(B) (Shift in Production or Services to a Foreign Country Path or Acquisition of Articles or Services from a Foreign Country Path) of the Trade Act have been met.

TA-W No. | Subject firm | Location | Impact date
92,953 | Kelly Services, Inc., Kelly Global Business Services, Global Business Solutions, etc | Troy, MI | June 15, 2016.
93,814 | DISH Network L.L.C., DISH DBS Corporation | Christiansburg, VA | May 10, 2017
93,820. | DiCentral Corporation, Sales Department | Houston, TX | May 16, 2017.
93,844 | PERQ/HCI LLC, SRDS division, Kantar Media, Cognizant | Rosemont, IL | May 24, 2017.
93,865 | Dun & Bradstreet, Inc., Editorial Department | Austin, TX | June 1, 2017.
93,898 | Cardinal Health, 200 LLC, Presource Sales Operations, Cardinal Health, Inc | Waukegan, IL | June 15, 2017.
93,899 | Arizona Digestive Center, Billing, Creative Business Resources, Inc. | Scottsdale, AZ | June 18, 2017.
93,903 | Thermo Fisher Scientific, Laboratory Products, Life Sciences Solutions Group, DCR Workforce, etc | Rochester, NY | June 18, 2017.
93,908 | Travel Impressions, Ltd./Apple Vacations, LLC, ALG Integrated Holdings Corp., Manpower, Execusearch | Farmingdale, NY | June 19, 2017.
93,915 | Telefonica USA, Inc., Telefonica International Wholesale Services II S.L.U., Careerxchange, Inc | Doral, FL | June 20, 2017.
93,925 | Dimension Data North America, Inc., Managed Services Global Services Center (GSC) Engineering, Dimension Data | Reston, VA | June 26, 2017.
93,925A | Dimension Data North America, Inc., Managed Services Global Services Center Engineering, Dimension Data, etc | Raleigh, NC | June 26, 2017.
93,925B | Dimension Data North America, Inc., Managed Services Global Services Center (GSC) Engineering, Dimension Data | Natick, MA | June 26, 2017.
93,925C | Dimension Data North America, Inc., Managed Services Global Services Center (GSC) Engineering, Dimension Data | Rancho Cordova, CA | June 26, 2017.
93,925D | Dimension Data North America, Inc., Managed Services Global Services Center (GSC) Engineering, Dimension Data | Valencia, CA | June 26, 2017.
93,925E | Dimension Data North America, Inc., Managed Services Global Services Center (GSC) Engineering, Dimension Data | Alpharetta, GA | June 26, 2017.
93,925F | Dimension Data North America, Inc., Managed Services Global Services Center (GSC) Engineering, Dimension Data | Fort Mill, SC | June 26, 2017.
93,925G | Dimension Data North America, Inc., Managed Services Global Services Center (GSC) Engineering, Dimension Data | Austin, TX | June 26, 2017.
93,932 | Computershare, Inc., Canton Technology Group, Computershare Limited, Adecco Staffing, etc | Canton, MA | June 27, 2017
93,933. | Datwyler Pharma Packaging USA, Inc., Datwyler Pharma Packaging Belgium N.V., Kay Personnel | Pennsauken, NJ | June 27, 2017.
93,941 | Randstad, Seagate Technology, Seagate Technology (US) Holdings | Oklahoma City, OK | June 26, 2017.
93,942 | Micro Motion Inc., Emerson Electric Company, Rosemount Flow, Vision Staffing Solutions | Eden Prairie, MN | June 29, 2017.
93,942A | Volt Workforce Solutions, Micro Motion Inc., Emerson Electric Company, Rosemount Flow | Eden Prairie, MN | April 29, 2018.
93,945 | Apple Vacations, LLC, ALG Integrated Holdings Corp | Newtown Square, PA | June 15, 2017.
93,952 | Honeywell International Inc., Productivity Products Strategic Business Unit, Manpower Group | Lynnwood, WA | July 3, 2017.
93,968 | Sigma-Aldrich Co. LLC, USA, MERCK KGaA | St. Louis, MO | July 10, 2017.
93,973 | BIC Corporation, Société BIC, Consumer Products Division, Kelly Services | Milford, CT | July 11, 2017.
93,976 | Lord and Taylor LLC, Major Home Fashions Department | Wilkes-Barre, PA | July 11, 2017.
93,977 | Peds Legwear (USA) Inc., Gildan Activewear, Foothills Temporary Employment, Foothills Staffing, etc | Hildebran, NC | July 11, 2017.
93,989 | Silcotech Carolina Inc., 2306239 Ontario Inc., Capital Talent Partners | York, SC | July 17, 2017.
93,994 | Fargo Assembly Company, Electrical Components International Inc., Edgeley Division | Edgeley, ND | July 19, 2017.
93,994A | Fargo Assembly Company, Electrical Components International Inc., Ellendale Division | Ellendale, ND | July 19, 2017.
93,994B | Fargo Assembly Company, Electrical Components International Inc., Lehr Division | Lehr, ND | July 19, 2017.
93,999 | Ministry Health Care Inc., Ascension Health, revenue cycle group, American Business Resource, etc | Merrill, WI | July 20, 2017.
94,000 | Pranda North America, Inc., Pranda Jewelry Public Company Ltd | Cranston, RI | July 20, 2017.
94,002 | Auburn Leather Company, G.W. Caldwell LLC, Quality Personnel | Auburn, KY | June 24, 2017.
94,002A | Auburn Leather Company DBA Old Kentucky Leather, G.W. Caldwell LLC, Quality Personnel | Franklin, KY | June 24, 2017.
94,018 | AT&T Mobility Services LLC, AT&T, AT&T Digital, Retail & Care—Mobility Technical Support &amp; Digital | Harrisburg, PA | July 27, 2017.
94,019 | Chain IQ US Inc., Americas Division, Chain IQ AG, Matlen Silver Group | Jersey City, NJ | July 30, 2017.
94,022 | CURT Manufacturing, LLC, CURT Acquisition Holdings, Inc., iSymphony | Eau Claire, WI | July 27, 2017.
94,051 | Enrichment Technology US, Inc., Enrichment Technology Company | Eunice, NM | August 8, 2017.

The following certifications have been issued. The requirements of Section 222(b) (supplier to a firm whose workers are certified eligible to apply for TAA) of the Trade Act have been met.

TA-W No. | Subject firm | Location | Impact date
93,223 | Saint-Gobain Proppants, Saint-Gobain NorPro, Saint-Gobain Corporation | Fort Smith, AR | October 14, 2017.

The following certifications have been issued. The requirements of Section 222(e) (firms identified by the International Trade Commission) of the Trade Act have been met.

TA-W No. | Subject firm | Location | Impact date
93,794 | Engineered Wire Products, Inc., Upper Sandusky Division, Keystone Consolidated Industries, Inc | Upper Sandusky, OH | July 7, 2016.
93,996 | Mid-West Mfg. LLC, PTC Group Holdings Corp | Chicago Heights, IL | January 30, 2017.
93,997 | PTC Tubular Products LLC, PTC Group Holdings Corp., Manpower | Fairbury, IL | January 30, 2017.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
93,476 | Tenax Corporation | Evergreen, AL.
93,892 | Cascade Steel Rolling Mills, Inc., Schnitzer Steel Industries, El Monte, Express Employment Professionals | City of Industry, CA.

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,887 | American Distribution and Warehousing Services, Inc | Ridgeway, VA.
93,156 | Charter Communications, LLC, Charter Communications, Inc | Palm Desert, CA.
93,624 | Georgia-Pacific Consumer Operations LLC, Camas Mill, Communications Papers, Georgia-Pacific, etc | Camas, WA.
93,757 | A.O. Smith Corporation, Renton Facility, Accountemps | Renton, WA.
93,759 | Fasten Inc | Boston, MA.
93,809 | NorthEast Provider Solutions, Inc., Westchester County Healthcare Corp., Westchester Medical Center | Hawthorne, NY.
93,841 | FF Acquisition, LLC, Farm Fresh Grocery Store No. 6262, Supervalu Inc | Poquoson, VA.
93,888 | Essity Operations Wausau, LLC, Global Hygiene Supply Division | Middletown, OH.

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,007 | Centralia Knitting Mills, Inc | Centralia, WA.

The following determinations terminating investigations were issued in cases where the petition regarding the investigation has been deemed invalid.

TA-W No. | Subject firm | Location | Impact date
92,747 | Wipro | East Brunswick, NJ.

The following determinations terminating investigations were issued because the worker group on whose behalf the petition was filed is covered under an existing certification.

TA-W No. | Subject firm | Location | Impact date
93,593 | Dex Media Inc., Dex YP | Tucker, GA.
93,905 | Ditech Financial LLC, Procurement/P2P Group, Walter Investment Management, Accountemps, etc | St. Paul, MN.
93,916 | Cosmoflex, Inc., ContiTech USA, Inc | Hannibal, MO.
93,956 | Caterpillar Inc | Joliet, IL.
94,006 | Nuance Transcription Services, Inc., Nuance Communications, Inc | Atlanta, GA.

The following determinations terminating investigations were issued because the petitioning group of workers is covered by an earlier petition that is the subject of an ongoing investigation for which a determination has not yet been issued.

TA-W No. | Subject firm | Location | Impact date
93,816 | Philips North America LLC, Philips Electronics North America Corporation, Philips Holding USA, etc | Bothell, WA.

I hereby certify that the aforementioned determinations were issued during the period of July 14, 2018 through August 17, 2018. These determinations are available on the Department's website https://www.doleta.gov/tradeact/taa/taa_search_form.cfm under the searchable listing determinations or by calling the Office of Trade Adjustment Assistance toll free at 888-365-6822.

Signed at Washington, DC, this 20th day of August 2018.
Hope D. Kinglock,
Certifying Officer, Office of Trade Adjustment Assistance.

[FR Doc. 2018-22916 Filed 10-19-18; 8:45 am]

BILLING CODE 4510-FN-P